FEDERAL MINE SAFETY AND HEALTH REVIEW COMMISSION

Notice of Meeting; Sunshine Act

April 13, 2006.

TIME AND DATE: 10 a.m., Thursday, April 27, 2006.

PLACE: The Richard V. Backley Hearing Room, 9th Floor, 601 New Jersey Avenue, NW., Washington, DC.

Status: Open.

Matters to be Considered: The Commission will hear oral argument on the matter Secretary of Labor v. Plateau Mining Corporation, Docket Nos. WEST 2002-207 and WEST 2002-278. (Issues include whether the judge correctly determined that Plateau's bleeder system was not functioning in accordance with the requirements of 30 CFR 75.334(b)(1); whether the judge correctly determined that Plateau's alleged violation of section 75.334(b)(1) was of a significant and substantial nature; whether the judge correctly determined that Plateau violated 30 CFR 75.370(a) because its ventilation plan did not include a breached undercast; and whether the judge correctly determined that an operator may be held to have violated section 75.334(b)(1) even if it has complied with the terms of its ventilation plan).

Any person attending this oral argument who requires special accessibility features and/or auxiliary aids, such as sign language interpreters, must inform the Commission in advance of those needs, subject to 29 CFR 2706.150(a)(3) and 2706.160(d).

FOR FURTHER INFORMATION CONTACT: Jean Ellen, (202) 434-9950/(202) 708-9300 for TDD Relay/1-800-877-8339 for toll free.

Jean H. Ellen,
Chief Docket Clerk.

[FR Doc. 06-3809 Filed 4-18-06 12:13 pm]

BILLING CODE 6735-01-M